DEPARTMENT OF HOUSING AND URBAN DEVELOPMENT

Office of the Assistant Secretary for Public and Indian Housing

[Docket No. FR-4563-N-02]

Notice of Proposed Information Collection for Public Comment for the General Conditions for Construction, Public and Indian Housing Programs

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: April 28, 2000.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology; e.g., permitting electronic submission of responses.

This Notice also lists the following information:

Title of Proposal: General Conditions of the Construction Contract; Public and Indian Housing Programs.

OMB Control Number: 2577-0094.

Description of the need for the information and proposed use: This form is required for construction contracts awarded by Public Housing Agencies and Tribally Designated Housing Entities (TDHEs), referred to hereafter as Housing Agencies (HAs). The form provides the requirements for performance and compliance with the constructions under the conventional bid method and modernization. If the form were not used by HAs in solicitations, HAs would be unable to enforce their contracts. The form includes those clauses required by OMB's Common Rule on grantee procurement, implemented by HUD at 24 CFR 85.36, HUD program regulations on grantee procurement; those requirements set forth in Section 3 of the Housing and Urban Development Act of 1968, as amended (12 U.S.C. 1701u, Section 3, for the employment, training, and contracting opportunities for low-income persons), implemented by HUD at 24 CFR 135.

Agency form numbers, if applicable. Form HUD-5370.

Members of affected public: State, local or Tribal Government Housing Agencies.

Estimation of the total number of hours needed to prepare the information collection including number of respondents, frequency of response, and hours of response: 2,694 responses (624 development and 2,070 modernization), one response per construction contract, one hour per response, 2,694 total burden hours.

Status of the proposed information collection: Extension.

Authority: Section 3506 of the Paperwork Reduction Act of 1995, 44 U.S.C. Chapter 35, as amended.

Dated: February 18, 2000.
Harold Lucas,
Assistant Secretary for Public and Indian Housing.

BILLING CODE 4210-33-M

[FR Doc. 00-4540 Filed 2-25-00; 8:45 am]

BILLING CODE 4210-33-C